DEPARTMENT OF ENERGY

Federal Energy Regulatory Commission

[Project No. 14136-000; Project No. 14139-000]

Lock+ Hydro Friends Fund XXXV, Riverbank Hydro No. 4, LLC; Notice Announcing Preliminary Permit Drawing

The Commission has received two competing preliminary permit applications deemed filed at the same time for proposed hydropower projects at the U.S. Army Corps of Engineers' Lock and Dam No. 5, located on the Mississippi River near Minnesota City, Minnesota, in Winona County, Minnesota, and Buffalo County, Wisconsin.¹ The applications were filed by Lock+ Hydro Friends Fund XXXV for Project No. 14136 and Riverbank Hydro No. 4, LLC, for Project No. 14139.

¹ The applications were received after Commission business hours on March 31, 2011. Under the Commission's Rules of Practice and Procedure, any document received after regular business hours is considered filed at 8:30 a.m. on the next regular business day. 18 CFR 385.2001(a)(2) (2011). Therefore, the applications are deemed filed at 8:30 a.m. on April 1, 2011.

On October 27, 2011, at 2 p.m. (eastern time), the Secretary of the Commission, or her designee, will conduct a random drawing to determine the filing priority of the applicants identified in this notice. The Commission will select among competing permit applications, as provided in section 4.37 of its regulations.² The priority established by this drawing will be used to determine which applicant will be considered to have the first-filed application.

² 18 CFR 4.37 (2011).

The drawing is open to the public and will be held in room 2C, the Commission Meeting Room, located at 888 First St., NE., Washington, DC 20426. A subsequent notice will be issued by the Secretary announcing the results of the drawing.

Dated: October 18, 2011.
Nathaniel J. Davis, Sr.,
Deputy Secretary.

[FR Doc. 2011-27385 Filed 10-21-11; 8:45 am]

BILLING CODE 6717-01-P